DEPARTMENT OF AGRICULTURE

Animal and Plant Health Inspection Service

[Docket No. 03-090-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of regulations intended to prevent the interstate spread of fruit flies from Hawaii.

DATES: We will consider all comments that we receive on or before February 3, 2004.

ADDRESSES: You may submit comments by postal mail/commercial delivery or by e-mail. If you use postal mail/commercial delivery, please send four copies of your comment (an original and three copies) to: Docket No. 03-090-1, Regulatory Analysis and Development, PPD, APHIS, Station 3C71, 4700 River Road Unit 118, Riverdale, MD 20737-1238. Please state that your comment refers to Docket No. 03-090-1. If you use e-mail, address your comment to regulations@aphis.usda.gov. Your comment must be contained in the body of your message; do not send attached files. Please include your name and address in your message and “Docket No. 03-090-1” on the subject line.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding regulations to prevent the interstate spread of fruit flies from Hawaii, contact Mr. Alan S. Green, Assistant Director, Quarantine Policy, Analysis and Support, PPQ, APHIS, 4700 River Road Unit 60, Riverdale, MD 20737-1236; (301) 734-8311. For copies of more detailed information on the information collection, contact Mrs. Celeste Sickles, APHIS' Information Collection Coordinator, at (301) 734-7477.

SUPPLEMENTARY INFORMATION: Title: Fruit from Hawaii.

OMB Number: 0579-0123.

Type of Request: Extension of approval of an information collection.

Abstract: In accordance with the Plant Protection Act (7 U.S.C. 7701-7772), the Animal and Plant Health Inspection Service regulates the interstate movement of fruits and vegetables from Hawaii to prevent the interstate spread of fruit flies, including the Mediterranean fruit fly, the melon fly, and the Oriental fruit fly, pests that occur in Hawaii and can cause millions of dollars in damage to U.S. agriculture. The regulations are contained in Subpart—Hawaiian Fruit and Vegetables (7 CFR 318.13 through 318.13-17).

Among other things, the regulations allow the movement of atemoya, longan, rambutan, sapodilla, papaya, carambola, litchi, and other fruits from Hawaii if the fruit is irradiated, either before the interstate movement or at certain locations on the mainland United States.

The provisions of the regulations regarding irradiation require a number of information collection activities, including the use of certificates, limited permits, compliance agreements, requests for treatment facility approval, requests for certification and recertification of testing equipment, and recordkeeping systems.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.1190 hours per response.

Respondents: Fruit producers, shippers, irradiation facility personnel, and State plant regulatory officials.

Estimated annual number of respondents: 300.

Estimated annual number of responses per respondent: 9.15333.

Estimated annual number of responses: 2,746.

Estimated total annual burden on respondents: 327 hours. (Due to averaging, the total annual burden hours may not equal the product of the annual number of responses multiplied by the reporting burden per response.)

All responses to this notice will be summarized and included in the request for OMB approval. All comments will also become a matter of public record.

Done in Washington, DC, this 1st day of December, 2003.
Kevin Shea,
Acting Administrator, Animal and Plant Health Inspection Service.

[FR Doc. 03-30233 Filed 12-4-03; 8:45 am]

BILLING CODE 3410-34-P